DEPARTMENT OF COMMERCE

National Oceanic and Atmospheric Administration

RIN 0648-XF612

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC) to review the Research Track stock assessment development procedure proposed by the Southeast Fisheries Science Center (SEFSC). See SUPPLEMENTARY INFORMATION.

DATES: The SSC meeting will be held via webinar on Tuesday, September 5, 2017, from 9 a.m. to 12 p.m.

ADDRESSES: The meeting will be held via webinar. The webinar is open to members of the public. Those interested in participating should contact Mike Errigo at the Council office (see FOR FURTHER INFORMATION CONTACT) to request an invitation providing webinar access information. Please request webinar invitations at least 24 hours in advance of the webinar.

Council address: South Atlantic Fishery Management Council, 4055 Faber Place Drive, Suite 201, N. Charleston, SC 29405.

FOR FURTHER INFORMATION CONTACT: Mike Errigo; 4055 Faber Place Drive, Suite 201, North Charleston, SC 29405; phone: (843) 571-4366 or toll free (866) SAFMC-10; fax: (843) 769-4520; email: mike.errigo@safmc.net.

SUPPLEMENTARY INFORMATION: This meeting is held to review the Research Track stock assessment development procedure proposed by NOAA Fisheries' Southeast Fisheries Science Center. The SSC decided at their April 25-27, 2017 meeting in Charleston, SC, that the procedure for the Research Track was unclear and that they needed a document clearly laying out the process and approach of the Research Track before they could provide detailed comments.

Items to be addressed during this meeting:

1. Review the proposed Research Track procedure and provide comments and recommendations as necessary.

Special Accommodations

The meeting is physically accessible to people with disabilities. Requests for sign language interpretation or other auxiliary aids should be directed to the Council office (see ADDRESSES) at least 5 business days prior to the meeting.

Note: The times and sequence specified in this agenda are subject to change.

Authority: Authority: 16 U.S.C. 1801 et seq.

Dated: August 15, 2017.
Jeffrey N. Lonergan,
Acting Deputy Director, Office of Sustainable Fisheries, National Marine Fisheries Service.

[FR Doc. 2017-17531 Filed 8-18-17; 8:45 am]

BILLING CODE 3510-22-P